DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before March 29, 2002.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on February 21, 2002.
R. Ryan Posten,
Exemptions Program Officer, Office of Hazardous Materials, Exemptions and Approvals.

New Exemptions
Application No. | Docket No. | Applicant | Regulation(s) affected | Nature of exemption thereof
12672-N |  | Safety-Kleen Systems, Inc., Columbia, SC | 49 CFR 173.28(b)(7)(iv)(B) | To authorize the transportation in commerce of 30 gallon open-head plastic drums without performing leakproofness test prior to reuse. (modes 1, 2)
12920-N | RSPA-02-11638 | Epichem, Inc., Haverhill, MA | 49 CFR 173.181(c) | To authorize the transportation in commerce of pyrophoric materials in combination packagings with inner containers that exceed currently authorized quantities. (modes 1, 3)
12921-N | RSPA-02-11640 | GATX Rail, Chicago, IL | 49 CFR 173.31(b)(3)(ii) & (iii) | To authorize the transportation in commerce of certain DOT-111A60ALW aluminum tank cars equipped with alternative head protection for use in transporting various hazardous materials. (mode 2)
12924-N | RSPA-02-11641 | Infineum USA LP, Linden, NJ | 49 CFR 174.67(i) & (j) | To authorize rail cars to remain attached during unloading various hazardous materials without the physical presence of an unloader. (mode 2)
12925-N | RSPA-02-11631 | U.S. Department of Energy, Oak Ridge, TN | 49 CFR 173.244 | To authorize the one-time, one-way transportation in commerce of solidified sodium metal in certain non-DOT specification bulk packaging. (mode 1)
12926-N | RSPA-02-11623 | S.C. Johnston & Son, Inc., Washington, DC | 49 CFR 173.306 | To authorize the transportation in commerce of aerosols, non-flammable, Division 2.2 in non-DOT specification containers. (mode 1)
12927-N | RSPA-02-11628 | Tri-Wall, A Weyerhaeuser Business, Butler, IN | 49 CFR 173.12(b)(2) | To authorize the manufacture, marking and sale of a corrugated fiberboard box for use as the outer packaging for lab pack applications. (mode 1)
12928-N | RSPA-02-11629 | Pacer Global Logistics, Dublin, OH | 49 CFR 172.201(c) | To authorize the transportation in commerce of rail cars containing various hazardous materials to be transported with alternative shipping papers. (mode 2)
12929-N |  | Matheson Tri-Gas, East Rutherford, NJ | 49 CFR 173.301(j)(1) | To authorize the transportation in commerce of certain DOT specification and non-DOT specification cylinders manufactured to a foreign specification which are charged for export only. (modes 1, 3)
12930-N | RSPA-02-11624 | Roeder Cartage Company, Inc., Lima, OH | 49 CFR 173.32b(b)(1), 180.352(b)(3) | To authorize the transportation of certain lined DOT Specification cargo tanks which are not subject to the internal visual inspections for use in transporting certain Class 8 hazardous materials. (modes 1, 3)
12931-N | RSPA-02-11626 | Quality Terminals, Chester, SC | 49 CFR 174.67(i) & (j) | To authorize rail cars to remain attached during unloading of Class 8 hazardous materials without the physical presence of an unloader. (mode 2)
12933-N | RSPA-02-11622 | In-X Corporation, Denver, CO | 49 CFR 173.306(a)(2)(i) | To authorize the transportation in commerce of a specially designed device equipped with a small cylindrical pressure vessel containing limited quantity of helium gas overpacked in cardboard containers. (modes 1, 2, 3, 4)

[FR Doc. 02-4624 Filed 2-26-02; 8:45 am]

BILLING CODE 4910-60-M